DEPARTMENT OF THE INTERIOR

National Park Service

[NPS-WASO-VRP-13335; PXXVPAD0517.00.1]

Privacy Act of 1974, as amended; Notice to Amend an Existing System of Records

AGENCY: National Park Service, Interior.

ACTION: Notice of amendment to an existing system of records.

SUMMARY: Pursuant to the provisions of the Privacy Act of 1974, as amended, the Department of the Interior is issuing a public notice of its intent to amend the National Park Service Privacy Act system of records, “Special Use Permits—Interior, NPS-1,” to update the system location, categories of individuals covered by the system, categories of records in the system, authority, routine uses, storage, safeguards, retention and disposal, system manager and address, notification procedures, records access and contesting procedures, and record source categories. The purpose of the system is to provide a park superintendent with information to approve or deny requests for activities that provide a benefit to an individual, group or organization, rather than the public at large. The system also assists park staff to manage the activity to ensure that the permitted activity does not interfere with the enjoyment of the park by visitors and that the natural and cultural resources of the park are protected.

DATES: Comments must be received by March 31, 2014.

ADDRESSES: Any person interested in commenting on this notice may do so by: submitting comments in writing to Felix Uribe, National Park Service Privacy Act Officer, 1849 C Street NW., Mail Stop 2550, Washington, DC 20240; hand-delivering comments to Felix Uribe, National Park Service Privacy Act Officer, 1201 Eye Street NW., Washington, DC 20005; or emailing comments to Felix_Uribe@nps.gov.

FOR FURTHER INFORMATION CONTACT: Special Park Uses Program Manager, 1849 C Street NW., Mail Stop 2460, Washington, DC 20240; or by telephone at 202-513-7092.

SUPPLEMENTARY INFORMATION:

I. Background

The Department of the Interior (DOI), National Park Service (NPS) maintains the “Special Use Permits—Interior, NPS-1” system of records. The purpose of the system is to provide a park superintendent with information to approve or deny requests for activities that provide a benefit to an individual, group or organization, rather than the public at large. The system also assists park staff to manage the activity to ensure that the permitted activity does not interfere with the enjoyment of the park by visitors and that the natural and cultural resources of the park are protected. The system was last published in the Federal Register on November 15, 1999 (Volume 64, Number 219).

The amendments to the system will be effective as proposed at the end of the comment period (the comment period will end 40 days after the publication of this notice in the Federal Register), unless comments are received which would require a contrary determination. DOI will publish a revised notice if changes are made based upon a review of the comments received.

II. Privacy Act

The Privacy Act of 1974, as amended, embodies fair information practice principles in a statutory framework governing the means by which Federal Agencies collect, maintain, use, and disseminate individuals' personal information. The Privacy Act applies to information that is maintained in a “system of records.” A “system of records” is a group of any records under the control of an agency for which information is retrieved by the name of an individual or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act regulations, 43 CFR Part 2.

The Privacy Act requires each agency to publish in the Federal Register a description denoting the type and character of each system of records that the agency maintains, the routine uses that are contained in each system in order to make agency record keeping practices transparent, to notify individuals regarding the uses of their records, and to assist individuals to more easily find such records within the agency. Below is the description of the National Park Service, “Special Use Permits—Interior, NPS-1” system of records.

In accordance with 5 U.S.C. 552a(r), DOI has provided a report of this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Dated: February 11, 2014.
Felix Uribe,
Privacy Act Officer, National Park Service.

SYSTEM NAME:

Special Use Permits—Interior, NPS-1

SYSTEM LOCATION:

Records in this system are maintained by the Special Park Uses Program, 1849 C Street NW., Mail Stop 2460, Washington, DC 20240. Records may also be located at the parks responsible for issuing special use permits.

CATEGORIES OF INDIVIDUALS COVERED BY THE SYSTEM:

Individuals covered by the system include NPS employees and contractors responsible for processing applications for special use permits, applicants of special use permits, and holders of special use permits. This system contains records concerning corporations and other business entities, which are not subject to the Privacy Act. However, records pertaining to individuals acting on behalf of corporations and other business entities may reflect personal information.

CATEGORIES OF RECORDS IN THE SYSTEM:

The system contains: (1) Applications for special use permits and may include name, organization, social security number, tax identification number, address, telephone number, fax number, email address, person's position title; information of proposed activity including park alpha code, permit number, date, location, number of participants and vehicles, type of use, equipment, support personnel for the activity, company, project name and type, fees, liability insurance information; information on special activities including number of minors, livestock, aircraft type, special effects, special effect technician's license and permit number, stunts, unusual or hazardous activities; information on driver's license including number, state, and expiration date; vehicle information including year, make, color, weight, plate number, and insurance; and (2) supporting documentation for permitted activities containing site plans, diagrams, story boards or scripts, crowd control and emergency medical plans and proposed site plan(s).

AUTHORITY FOR MAINTENANCE OF THE SYSTEM:

16 U.S.C. 1, National Park Service Organic Act; 16 U.S.C. 3, Rules and regulations of national parks, reservations, and monuments; timber; leases, 16 U.S.C. 3a, Recovery of costs associated with special use permits; and 16 U.S.C. 460i-6d, Commercial Filming.

ROUTINE USES OF RECORDS MAINTAINED IN THE SYSTEM, INCLUDING CATEGORIES OF USERS AND THE PURPOSES OF SUCH USES:

The purposes of the system are (1) to provide a park superintendent with information to approve or deny requests for activities that provide a benefit to an individual, group or organization, rather than the public at large; and (2) to assist park staff to manage the activity to ensure that the permitted activity does not interfere with the enjoyment of the park by visitors and that the natural and cultural resources of the park are protected.

In addition to those disclosures generally permitted under 5 U.S.C. 552a(b) of the Privacy Act, disclosures outside DOI may be made as a routine use pursuant to 5 U.S.C. 552a(b)(3) as follows:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. § 3711(e)(1), have been met.

POLICIES AND PRACTICES FOR STORING, RETRIEVING, ACCESSING, RETAINING AND DISPOSING OF RECORDS IN THE SYSTEM:

STORAGE:

Paper records are contained in file folders stored within filing cabinets. Electronic records are maintained in computers, computer databases, email, and electronic media such as removable hard drives, magnetic disks, compact discs, and computer tapes.

RETRIEVABILITY:

Records in the system are retrieved by permittee's name, permit number or date of activity.

SAFEGUARDS:

The records contained in this system are safeguarded in accordance with 43 CFR 2.226 and other applicable security rules and policies. Paper records are maintained in file cabinets located in secured DOI facilities under the control of authorized personnel.

Access to DOI networks and records in this system requires a valid username and password, and is limited to DOI personnel who have a need to know the information for the performance of their official duties. Computers and storage media are encrypted in accordance with DOI security policy. Computers containing files are password protected to restrict unauthorized access. The computer servers in which electronic records are stored are located in secured Department of the Interior facilities. Personnel authorized to access systems must complete all Security, Privacy, and Records Management training and sign the DOI Rules of Behavior.

RETENTION AND DISPOSAL:

Records in this system are retained in accordance with the National Park Service Records Schedule Resource Management and Lands, which has been approved by the National Archives and Records Administration (Job No. N1-79-08-1). The disposition is temporary. Retention of records with short-term operational value and not considered essential for the ongoing management of land and cultural and natural resources are destroyed 15 years after closure.

Paper records are disposed of by shredding or pulping, and records contained on electronic media are degaussed or erased in accordance with 384 Departmental Manual 1.

SYSTEM MANAGER AND ADDRESS:

Special Park Uses Program Manager, 1849 C Street NW., Mail Stop 2460, Washington, DC 20240.

NOTIFICATION PROCEDURES:

An individual requesting notification of the existence of records on himself or herself should send a signed, written inquiry to the System Manager identified above. The request envelope and letter should both be clearly marked “PRIVACY ACT INQUIRY.” A request for notification must meet the requirements of 43 CFR 2.235.

RECORDS ACCESS PROCEDURES:

An individual requesting records on himself or herself should send a signed, written inquiry to the System Manager identified above. The request should describe the records sought as specifically as possible. The request envelope and letter should both be clearly marked “PRIVACY ACT REQUEST FOR ACCESS.” A request for access must meet the requirements of 43 CFR 2.238.

CONTESTING RECORDS PROCEDURES:

An individual requesting corrections or the removal of material from his or her records should send a signed, written request to the System Manager identified above. A request for corrections or removal must meet the requirements of 43 CFR 2.246.

RECORD SOURCE CATEGORIES:

Records in the system are obtained from applicants of special use permits and holders of special use permits.

EXEMPTIONS CLAIMED FOR THE SYSTEM:

None.

Privacy Act of 1974

NARRATIVE STATEMENT FOR AN AMENDED PRIVACY ACT SYSTEM OF RECORDS FOR THE DEPARTMENT OF THE INTERIOR, NATIONAL PARK SERVICE—SPECIAL USE PERMITS

Special Use Permits—Interior, NPS-1

1. Describe the purposes of the system of records.

The National Park Service (NPS) maintains the Special Use Permits system of records. The purpose of the system is to provide a park superintendent with information to approve or deny requests for activities that provide a benefit to an individual, group or organization, rather than the public at large. The system also assists park staff to manage the activity to ensure that the permitted activity does not interfere with the enjoyment of the park by visitors and that the natural and cultural resources of the park are protected.

The NPS only collects information that is necessary to execute the responsibilities of the Special Park Uses (SPU) Program. The SPU Program provides information and policy guidance to park superintendents, and regional and park special park uses personnel on permits such as right-of-way permits, special event and First Amendment permits, and commercial film permits.

The NPS estimates that the Special Use Permits system will contain a large amount of individual records for those individuals that have applied for special use permits from the National Park Service, and currently hold special use permits. The system contains records concerning corporations and other business entities, which are not subject to the Privacy Act. However, records pertaining to individuals acting on behalf of corporations and other business entities may reflect personal information. The National Park Service receives in excess of 18,000 applications per year for special park use permits, of which approximately 13,000 applications are received from individuals.

Steps were taken to minimize the amount of personal information maintained in the Special Use Permits system. Only information that is required to provide a superintendent with sufficient information to make an informed decision on the request for a permit is collected. Social security or tax identification numbers are collected in accordance with the Debt Reduction Act.

2. Identify the specific statute or Executive Order which authorizes the maintenance of the system of records.

16 U.S.C. 1, National Park Service Organic Act; 16 U.S.C. 3, Rules and regulations of national parks, reservations, and monuments; timber; leases, 16 U.S.C. 3a, Recovery of costs associated with special use permits; and 16 U.S.C. 460i-6d, Commercial Filming.

3. Provide an evaluation of the probable or potential effect of the proposal on the privacy of individuals.

The Special Use Permits System collects and stores information from individuals, businesses or government entities (including personally identifiable information from individuals representing businesses) that apply or are granted permits for special uses at the National Park Service.

The Special Park Uses Program has taken measures to protect the information in the system and as a result, there is a minimal risk to the privacy of most individuals.

4. Describe the relationship of the proposal, if any, to the other branches of the Federal government and to State and local governments.

DOI may share information contained within the NPS Special Use Permits system with other Federal, state and local governments to provide information needed to recover debts owed to the United States, to respond to a violation or potential violation of law, in response to court order and/or discovery purposes related to litigation, or other authorized routine use when the disclosure is compatible with the purpose for which the records were compiled.

5. Provide a brief description of steps taken by the agency to minimize the risk of unauthorized access to the system of records.

The records contained in this system are safeguarded in accordance with 43 CFR 2.226 and other applicable security rules and policies. Paper records are maintained in file cabinets located in secured DOI facilities under the control of authorized personnel.

Access to DOI networks and records in this system requires a valid username and password, and is limited to DOI personnel who have a need to know the information for the performance of their official duties. Computers and storage media are encrypted in accordance with DOI security policy. Computers containing files are password protected to restrict unauthorized access. The computer servers in which electronic records are stored are located in secured Department of the Interior facilities. Personnel authorized to access systems must complete all Security, Privacy, and Records Management training and sign the DOI Rules of Behavior.

6. Explain how each proposed routine use is compatible with the purpose for which the records are collected and maintained.

Each proposed routine use is compatible with the purpose of this system because it either: promotes the integrity of the records in the system or servicing and maintenance of the system; improves access by individuals who are the subjects of the information in the system, pursuant to the Privacy Act of 1974, 5 U.S.C. § 552a; or carries out a statutory responsibility of the Department, or requires that a specific determination be made prior to disclosure that a concrete relationship or similarity exists between the disclosure and the purpose for which the information in the system was gathered.

7. Provide the OMB clearance numbers, expiration dates, and titles of any OMB-approved information collection requirements contained in the system of records.

The Special Use Permits—Interior, NPS—1 is comprised of information taken from NPS forms (OMB Control Number: 1024-0026). The forms are: Application for Special Use Permit, #10-930, expires 06/2013; Application for Commercial Filming/Still Photography Permit (short form), #10-931, expires 06/2013; Application for Commercial Filming/Still Photography Permit (long form), #10-932, expires 06/2013; and two new forms, Application for Vehicle Use Permit, #10-933 and Application for Special Use Permit (short form) #10-930S. An Information Collection Request for both forms was submitted to OMB for approval on December 31, 2012.

8. Does the proposal require new or revised agency rules to be published in the Federal Register?

No. This system of records does not require new or revised agency rules to be published in the Federal Register.

[FR Doc. 2014-03433 Filed 2-14-14; 8:45 am]

BILLING CODE 4312-EJ-P